DEPARTMENT OF THE INTERIOR

National Park Service

Notice of Inventory Completion: Thomas Burke Memorial Washington State Museum, University of Washington, Seattle, WA

AGENCY: National Park Service, Interior.

ACTION: Notice.

Notice is here given in accordance with the Native American Graves Protection and Repatriation Act (NAGPRA), 25 U.S.C. 3003, of the completion of an inventory of human remains and associated funerary objects in the control of the Thomas Burke Memorial Washington State Museum (Burke Museum), Seattle, WA. The human remains and associated funerary objects were removed from Guss Island, San Juan County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains and associated funerary objects was made by Burke Museum and San Juan Island National Historical Park professional staff in consultation with representatives of the Lummi Tribe of the Lummi Reservation, Washington; Samish Indian Tribe, Washington; and Swinomish Indians of the Swinomish Reservation, Washington.

In 1926, human remains were removed from Guss Island in San Juan County, WA, by A.G. Colley, during an excavation, as part of a museum sponsored expedition and were formally accessioned by the museum (Burke Accn. #2126). The whereabouts of two sets of human remains are unknown. The remaining two sets of human remains were legally transferred to Central Washington University in 1974. National Park Service reasserted control over the human remains upon learning they were removed from National Park Service property in 1996 and 2007. In 2007, the Burke Museum and National Park Service agreed that the removal of the human remains from Guss Island predated the establishment of the San Juan Island National Historical Park, which was created in 1966, and should not have been transferred to the National Park Service. The human remains were placed under the control of the Burke Museum. No known individuals were identified. The six funerary objects are three slate knives and three unmodified stones.

The prehistory of the region, based on archeological research and analysis, indicates continuous habitation from approximately 2,000 years ago through the mid-19th century by Northern Straits peoples who were part of a Central Coast Salish population that were ancestral to the Lummi Tribe. Anthropological research in the late 1940s by Wayne Suttles indicates that the Lummi occupied San Juan Island and other nearby islands in the contact period, including Guss Island. Archeological information in the original field notes indicates that Native American canoe burials were present on Guss Island in the late 1800s. Based upon the geographic, archeological, and accession documentation, the two individuals from Guss Island are of Native American ancestry. Guss Island is within the aboriginal territory of the Lummi Tribe of the Lummi Reservation, Washington. Lummi oral tradition and anthropological data clearly associate the Lummi with San Juan Island and other nearby islands (Suttles 1951, 1990). The evidence indicates that the members of the Lummi Tribe of the Lummi Reservation, Washington are culturally affiliated with the human remains and associated funerary objects from Guss Island.

Officials of the Burke Museum have determined that, pursuant to 25 U.S.C. 3001 (9-10), the human remains described above represent the physical remains of two individuals of Native American ancestry. Officials of the Burke Museum also have determined that, pursuant to 25 U.S.C. 3001 (3)(A), the six objects described above are reasonably believed to have been place with or near individual human remains at the time of death or later as part of the death rite or ceremony. Lastly, officials of the Burke Museum also have determined that, pursuant to 25 U.S.C. 3001 (2), there is a relationship of shared group identity that can be reasonably traced between the Native American human remains and associated funerary objects and the Lummi Tribe of the Lummi Reservation, Washington.

Representatives of any other Indian tribe that believes itself to be culturally affiliated with the human remains and associated funerary objects should contact Dr. Peter Lape, Burke Museum, University of Washington, Box 353010, Seattle, WA 98195-3010, telephone (206) 685-2282, before June 23, 2008. Repatriation of the human remains and associated funerary objects to the Lummi Tribe of the Lummi Reservation, Washington may proceed after that date if no additional claimants come forward.

The Burke Museum is responsible for notifying the Lummi Tribe of the Lummi Reservation, Washington; Samish Indian Tribe, Washington; and Swinomish Indians of the Swinomish Reservation, Washington that this notice has been published.

Dated: April 29, 2008.
Sherry Hutt,
Manger, National NAGPRA Program.

[FR Doc. E8-11571 Filed 5-22-08; 8:45 am]

BILLING CODE 4312-50-S